DEPARTMENT OF HOMELAND SECURITY

Coast Guard

[CGD17-06-002]

Implementation of Sector Juneau

AGENCY: Coast Guard, DHS.

ACTION: Notice of organizational change.

SUMMARY: The Coast Guard announces the stand-up of Sector Juneau. The creation of Sector Juneau is an internal reorganization that combines Marine Safety Office Juneau with all prior subordinate units in addition to USCGC LIBERTY, USCGC ANACAPA, USCGC NAUSHON, USCGC ELDERBERRY, Station Juneau, Station Ketchikan, and Aids to Navigation Team Sitka into a single command. In addition, a Sector Field Office has been created to provide remote logistics support at Ketchikan, Alaska, named Sector Field Office Ketchikan, which will be subordinate to Sector Juneau. The Coast Guard has established a continuity of operations whereby all previous practices and procedures will remain in effect until superseded by an authorized Coast Guard official or document.

DATES: This notice is effective the date of publication in the Federal Register.

ADDRESSES: Documents indicated in this preamble as being available in the docket are part of docket CGD17-06-002 and are available for inspection or copying at Commander (dr), Seventeenth Coast Guard District, 709 West 9th Street, Room 771, Juneau, Alaska, 99802 between 9 a.m. and 4 p.m., Monday through Friday, except Federal holidays.

FOR FURTHER INFORMATION CONTACT: LCDR Carl Hinshaw, Assistant Branch Chief for Enforcement, Seventeenth District Response Division at 907-463-2284.

SUPPLEMENTARY INFORMATION:

Discussion of Notice

The Command Center for Sector Juneau is located at 2760 Sherwood Lane, Suite 2A, Juneau, Alaska 99801-8545. This Command Center will be collocated with the District Seventeen Command Center. A Sector Field Office has been created to provide remote logistics support at Ketchikan, Alaska. Sector Field Office Ketchikan is subordinate to Sector Juneau.

Sector Juneau is composed of a Response Department, Prevention Department, and Logistics Department. The new Sector's area of responsibility for search and rescue (SAR) will be maintained in accordance with the District SAR plan.

We projected that by 2007, all existing administrative and operational missions and functions performed by Marine Safety Office Juneau and prior subordinate units will be performed by Sector Juneau. Administrative missions and functions performed by USCGC LIBERTY, USCGC ANACAPA, USCGC NAUSHON, USCGC ELDERBERRY, Station Juneau, Station Ketchikan, and Aids to Navigation Team Sitka will be performed by Sector Juneau. All operational missions and functions performed by USCGC LIBERTY, USCGC ANACAPA, USCGC NAUSHON, USCGC ELDERBERRY, Station Juneau, Station Ketchikan, and Aids to Navigation Team Sitka will be assumed by Sector Juneau upon stand up of a single Command Center at Sector Juneau.

Sector Juneau is responsible for all Coast Guard Missions in the following zone: The Southeast Alaska Marine Inspection Zone and Captain of the Port Zone comprising the area within the boundary, which starts at 60°01.3′ N. latitude, 142°00′ W. longitude; thence proceeds northeasterly to the Canadian border at 60°18.7′ N. latitude, 141°00′ W. longitude; thence southerly and easterly along the United States-Canadian shore side boundary to 54°40′ N. latitude; thence westerly along the United States-Canadian maritime boundary to the outermost extent of the EEZ; thence northerly along the outer boundary of the EEZ to 142°00′ W. longitude; thence due north to the point of origin.

There are no changes to the Southeast Alaska Marine Inspection Zone and Southeast Alaska Captain of the Port Zone, which are delineated in 33 CFR 3.85-10. Sector Juneau will retain Captain of the Port, Federal Maritime Security Coordinator, Officer in Charge of Marine Inspection and Federal On-Scene Coordinator authorities and responsibilities in the Southeast Alaska Marine Inspection Zone and Captain of the Port Zone.

The Sector Juneau Commander is vested with all the rights, responsibilities, duties, and authority of a Group Commander and Commanding Officer, Marine Safety Office, as provided for in Coast Guard regulations, and is the successor in command to the Commanding Officer of Marine Safety Office Juneau. Under Operating Facility Change Order (OFCO) No. 027-06, the Sector Juneau Commander is designated:

• Captain of the Port (COTP) for the Southeast Alaska COTP zone;

• Federal Maritime Security Coordinator (FMSC);

• Federal On Scene Coordinator (FOSC) for the Southeast Alaska COTP zone, consistent with the National Contingency Plan;

• Officer in Charge of Marine Inspection (OCMI) for the Southeast Alaska Marine Inspection Zone; and

• Search and Rescue Mission Coordinator (SMC).

The Deputy Sector Commander is designated by Alternate COTP, FMSC, FOSC, SMC, and Acting OCMI.

A continuity order was issued on the May 8, 2006, ensuring that all previous Marine Safety Office Juneau practices and procedures will remain in effect until superseded by Commander, Sector Juneau. This continuity order addresses existing COTP regulations, orders, directives, and policies.

The following information is an updated address and point of contact to facilitate requests from the public and assist with entry into security or safety zones:

Name: Sector Juneau.

Address: Commander, U.S. Coast Guard Sector Juneau, 2760 Sherwood Lane, Suite 2A, Juneau, Alaska 99801-8545.

Telephone: General Number, (907) 463-2450.

Dated: July 20, 2006.
Arthur E. Brooks,
Rear Admiral, U.S. Coast Guard Commander, Seventeenth Coast Guard District.

[FR Doc. E6-12562 Filed 8-2-06; 8:45 am]

BILLING CODE 4910-15-P